DEPARTMENT OF THE INTERIOR

National Park Service

[NPS-WASO-CONC-20859; PPWOBSADC0, PPMVSCS1Y.Y00000]

Notice of Extension of Concession Contract

AGENCY: National Park Service, Interior.

ACTION: Public notice.

SUMMARY: The National Park Service hereby gives public notice that it proposes to extend the following expiring concession contract until December 31, 2017, or until the effective date of a new contract, whichever occurs sooner:

CONCID | Concessioner | Park unit
GLCA001-06 | Colorado River Discovery, LLC | Glen Canyon National Recreation Area.

DATES: Effective November 1, 2016.

FOR FURTHER INFORMATION CONTACT: Brian Borda, Chief, Commercial Services Program, National Park Service, 1201 Eye Street NW., 5th Floor, Washington, DC 20005, Telephone: 202-513-7156.

SUPPLEMENTARY INFORMATION: The listed concession contract will expire by its terms on October 31, 2016. The National Park Service has determined the proposed short-term extension necessary to avoid interruption of visitor services and has taken all reasonable and appropriate steps to consider alternatives to avoid such interruption. The National Park Service considered issuing a temporary concession contract, but deemed that alternative impractical given the time constraints and likelihood it would not increase competition. Under the provisions of the current concession contract and pending the completion of the public solicitation of a prospectus for a new concession contract, the National Park Service authorizes the extension of visitor services under the terms and conditions of the current contract as amended. The extension of operations does not affect any rights with respect to selection for award of a new concession contract. The publication of this notice merely reflects the intent of the National Park Service but does not bind the National Park Service to extend the contract identified above.

Dated: August 11, 2016.
Lena McDowall,
Chief Financial Officer.

[FR Doc. 2016-21101 Filed 8-31-16; 8:45 am]

BILLING CODE 4312-53-P